DEPARTMENT OF LABOR

Employment and Training Administration

[TA-W-55,670]

Hartford Technologies Company Formerly Known as Hartford Ball/Hartford Bearing, Subsidiary of Virginia Industries, Inc., Rocky Hill, CT; Amended Certification Regarding Eligibility To Apply for Worker Adjustment Assistance and Alternative Trade Adjustment Assistance

In accordance with Section 223 of the Trade Act of 1974 (19 U.S.C. 2273), and under Section 246 of the Trade Act of 1974, as amended, the Department of Labor issued a Certification of Eligibility to Apply for Worker Adjustment Assistance and Alternative Trade Adjustment Assistance on November 17, 2004, applicable to workers of Hartford Technologies Company, subsidiary of Virginia Industries, Inc., located in Rocky Hill, Connecticut. The notice will soon be published in the Federal Register.

At the request of the State Agency, the Department reviewed the certification for workers of the subject firm. The workers produce balls and bearings.

New information provided by the State agency shows that the same worker group was certified eligible to apply for trade adjustment assistance, petition number TA-W-41,960, under the firm name, Hartford Ball/Hartford Bearing, subsidiary of Virginia Industries, Inc. The certification was issued on September 18, 2002, and expired September 18, 2004.

The subdivision is now known as Hartford Technologies. In order to avoid an overlap in worker group coverage, the Department is changing the impact date for TA-W-55,670, from September 22, 2003 to September 19, 2004.

The amended notice applicable to TA-W-55,670 is hereby issued as follows:

“All workers of Hartford Technologies Company, formerly known as Hartford Ball/Hartford Bearing, subsidiary of Virginia Industries, Inc., Rocky Hill, Connecticut, who became totally or partially separated from employment on or after September 19, 2004, through November 17, 2006, are eligible to apply for adjustment assistance under Section 223 of the Trade Act of 1974, and are also eligible to apply for alternative trade adjustment assistance under Section 246 of the Trade Act of 1974.”

Signed at Washington, DC, this 6th day of December 2004.
Linda G. Poole,
Certifying Officer, Division of Trade Adjustment Assistance.

[FR Doc. E4-3733 Filed 12-17-04; 8:45 am]

BILLING CODE 4510-30-P